DEPARTMENT OF LABOR

Employment and Training Administration

[TA-W-55,748]

Liz Claiborne, Inc., North Bergen, NJ; Notice of Affirmative Determination Regarding Application for Reconsideration

By application of December 10, 2004, a representative of the New York Metropolitan Area Joint Board, UNITE HERE requested administrative reconsideration of the Department of Labor's negative determination regarding workers' eligibility to apply for Trade Adjustment Assistance (TAA) and Alternative Trade Adjustment Assistance (ATAA), applicable to workers of the subject firm. The Department's negative determination was issued on November 9, 2004.

The Notice of determination was published in the Federal Register on December 9, 2004 (69 FR 71429).

In the request for reconsideration, the petitioner asserts that, contrary to the Department's findings, the subject worker group's separation from the subject firm was due to the shift of sample production abroad.

The Department has carefully reviewed the petitioner's request for reconsideration as well as the subject firm's response, and has determined that the Department will conduct further investigation based on the new information provided by the petitioner and the company official.

Conclusion

After careful review of the application, I conclude that the claim is of sufficient weight to justify reconsideration of the Department of Labor's prior decision. The application is, therefore, granted.

Signed at Washington, DC, this 1st day of March, 2005.
Elliott S. Kushner,
Certifying Officer, Division of Trade Adjustment Assistance.

[FR Doc. E5-1243 Filed 3-21-05; 8:45 am]

BILLING CODE 4510-30-P